DEPARTMENT OF COMMERCE

National Oceanic and Atmospheric Administration

[RTID 0648-XW025]

Magnuson-Stevens Act Provisions; General Provisions for Domestic Fisheries; Coastal Pelagic Species Fishery; Application for Exempted Fishing Permits; California Wetfish Producers Association

AGENCY: National Marine Fisheries Service (NMFS), National Oceanic and Atmospheric Administration (NOAA), Commerce.

ACTION: Notice; request for comments.

SUMMARY: The Regional Administrator, West Coast Region, NMFS, has made a preliminary determination that an application for an Exempted Fishing Permit warrants further consideration. The application, submitted by the California Wetfish Producers Association, requests an exemption from the expected prohibition on primary directed fishing for Pacific sardine for the 2020-2021 fishing year to collect Pacific sardine as part of an industry-based scientific survey. NMFS requests public comment on the application.

DATES: Comments must be received by July 7, 2020.

ADDRESSES: You may submit comments on this document, identified by NOAA-NMFS-2020-0067, by the following method:

Electronic Submissions: Submit all public comments via the Federal e-Rulemaking Portal. Go to www.regulations.gov/#!docketDetail;D=NOAA-NMFS-2020-0067, click the “Comment Now!” icon, complete the required fields, and enter or attach your comments. The EFP application will be available under Supporting and Related Materials through the same link.

Instructions: Comments must be submitted by the above method to ensure that the comments are received, documented, and considered by NMFS. Comments sent by any other method or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: This action is authorized by the Coastal Pelagic Species (CPS) Fishery Management Plan (FMP) and regulations at 50 CFR 600.745, which allow NMFS Regional Administrators to authorize exempted fishing permits (EFPs) to test fishing activities that would otherwise be prohibited.

On May 27, 2020, NMFS published a proposed rule (85 FR 31733) to implement Pacific sardine harvest specifications for the 2020-2021 fishing year off the U.S. West Coast, which begins on July 1. This proposed rule included a 4,288 metric ton (mt) annual catch limit (ACL), a 4,000-mt annual catch target (ACT), and a prohibition on directed fishing for Pacific sardine off the coasts of Washington, Oregon, and California, except as part of the live bait or minor directed fisheries, or as part of EFP fishing activities.

On April 6, 2020, the California Wetfish Producers Association (CWPA) submitted an EFP application to NMFS requesting to directly harvest up to 400 mt of Pacific sardine as part of their CPS Nearshore Cooperative Survey (CPS-NCS) during the 2020-2021 fishing year. At the April 2020 Pacific Fishery Management Council (Council) meeting, although formal Council review and approval of EFPs was removed from the Council's agenda, the Council expressed support for this EFP proposal during their discussion of sardine management measures.

Since 2012 the California Department of Fish and Wildlife, in partnership with the CWPA, has been conducting aerial surveys to estimate the biomass and distribution of sardine and certain other CPS in nearshore waters in the Southern California Bight, and in the Monterey-San Francisco area since the summer of 2017. Currently, there is uncertainty in the biomass estimates from aerial spotter pilots. The CPS-NCS survey associated with the proposed EFP is part of research to quantify that level of uncertainty by capturing CPS schools identified by aerial spotter pilots and validating the biomass and species composition of the schools. A portion of each point set (i.e., an individual haul of fish captured with a purse seine net) will be retained for biological sampling, and the remainder will be sold by the participating fishermen and processors to offset research costs and avoid unnecessary discard. This research contributes to broader efforts to understand CPS biomass in shallow, nearshore areas that NMFS' CPS offshore acoustic trawl survey is unable to access.

If NMFS issues this EFP, the CPS-NCS will survey nearshore waters of the Southern California Bight for 7-10 days between July 1, 2020 and June 30, 2021. Any harvest under this EFP would count against the 2020-2021 ACL and ACT for Pacific sardine. If NMFS does not issue this EFP, then this 400 mt-portion of the ACL would be available for harvest by other permissible fishing activities.

After publication of this document in the Federal Register, NMFS may approve and issue permits to participating vessels after the close of the public comment period. NMFS will consider comments submitted in deciding whether to approve the application as requested. NMFS may approve the application in its entirety or may make any alterations needed to achieve the goals of the EFP project.

Authority: 16 U.S.C. 1801 et seq.

Dated: June 17, 2020.
Hélène M.N. Scalliet,
Acting Director, Office of Sustainable Fisheries, National Marine Fisheries Service.

[FR Doc. 2020-13369 Filed 6-19-20; 8:45 am]

BILLING CODE 3510-22-P